DEPARTMENT OF DEFENSE

Office of the Secretary

Missile Defense Advisory Committee (MDAC)

AGENCY: Missile Defense Agency (MDA), Department of Defense DoD.

ACTION: Notice of closed meeting.

SUMMARY: The Missile Defense Advisory Committee will meet in closed session on April 4-5, 2006, in Washington, DC.

The mission of the Missile Defense Advisory Committee is to provide the Department of Defense advice on all matters relating to missile defense, including system development, technology, program maturity and readiness of configurations of the Ballistic Missile Defense System (BMDS) to enter the acquisition process. At this meeting, the Committee will receive classified status reports on capability-based acquisition and international cooperation strategy.

FOR FURTHER INFORMATION CONTACT: Col. David R. Wolf, Designated Federal Official (DFO) at david.wolf@mds.mil, phone/voice mail (703) 695-6438, or mail at 7100 Defense Pentagon, Washington, DC 20301-7100.

SUPPLEMENTARY INFORMATION: In accordance with Section 10(d) of the Federal Advisory Committee Act, Public Law 92-463, as amended (5 U.S.C. App. II), it has been determined that this Missile Defense Advisory Committee meeting concerns matters listed in 5 U.S.C. 552b(c)(1) and that, accordingly, the meeting will be closed to the public.

Dated: March 7, 2006.
L.M. Bynum,
OSD Federal Register Liaison Office, Department of Defense.

[FR Doc. 06-2372 Filed 3-10-06; 8:45 am]

BILLING CODE 5001-06-M